SOCIAL SECURITY ADMINISTRATION

[Docket No. SSA-2018-0042]

Privacy Act of 1974; System of Records

AGENCY: Office of Retirement and Disability Policy, Office of Research, Demonstration, and Employment Support, Social Security Administration (SSA).

ACTION: Notice of a New System of Records.

SUMMARY: In accordance with the Privacy Act of 1974, we are issuing public notice of our intent to establish a new system of records entitled the Disability Analysis File (DAF) and the National Beneficiary Survey (NBS) Data System, (60-0382). This notice publishes details of the system as set forth under the caption SUPPLEMENTARY INFORMATION.

DATES: This system of records is effective upon its publication in today's Federal Register, with the exception of the routine uses, which are effective January 22, 2019. We invite public comment on the routine uses or other aspects of this system of records. In accordance with 5 U.S.C. 552a(e)(4) and (e)(11), the public is given a 30-day period in which to submit comments. Please submit any comments by January 22, 2019.

ADDRESSES: The public, Office of Management and Budget (OMB), and Congress may comment on this publication by writing to the Executive Director, Office of Privacy and Disclosure, Office of the General Counsel, Social Security Administration, Room G-401 West High Rise, 6401 Security Boulevard, Baltimore, Maryland 21235-6401, or through the Federal e-Rulemaking Portal at http://www.regulations.gov, please reference docket number SSA-2018-0042. All comments we receive will be available for public inspection at the above address and we will post them to http://www.regulations.gov.

FOR FURTHER INFORMATION CONTACT: Andrea Huseth, Government Information Specialist, Privacy Implementation Division, Office of Privacy and Disclosure, Office of the General Counsel, SSA, Room G-401 West High Rise, 6401 Security Boulevard, Baltimore, Maryland 21235-6401, telephone: (410) 965-6868, email: andrea.huseth@ssa.gov and Tristin Dorsey, Government Information Specialist, Privacy Implementation Division, Office of Privacy and Disclosure, Office of the General Counsel, SSA, Room G-401 West High Rise, 6401 Security Boulevard, Baltimore, Maryland 21235-6401, telephone: (410) 965-2950, email: tristin.dorsey@ssa.gov.

SUPPLEMENTARY INFORMATION: The DAF is an analytical file consisting of agency program data in an easy-to-use format. Each year, we create a new version of the file. The DAF contains historical, longitudinal, and one-time data ¹ on all beneficiaries with disabilities who were between age 18 and retirement age and who participated in the Social Security Disability Insurance (SSDI) or Supplemental Security Income (SSI) programs at any time between 1996 and the year of the file. The file also includes data on SSI child beneficiaries who participated in the SSI program.

¹ Historical data provides characteristics about specific incidents that occurred in the past. Longitudinal data is information provided at intervals over time to indicate change over time, e.g., benefit amounts in each months from 1994 through the end of the file. One-time data provides information about a beneficiary that does not change over time, e.g., sex or date of birth.

The NBS collects data from a national sample of SSDI and SSI beneficiaries, covering a wide range of topics including socio-demographic information, limiting conditions, health and functional status, health insurance, interest in work, barriers to work, use of services, employment, income, and experience with Social Security programs including Ticket to Work.

In accordance with 5 U.S.C. 552a(r), we have provided a report to OMB and Congress on this new system of records.

Dated: October 1, 2018.
Mary Zimmerman,
Acting Executive Director, Office of Privacy and Disclosure, Office of the General Counsel.

SYSTEM NAME AND NUMBER

Disability Analysis File (DAF) and the National Beneficiary Survey (NBS) Data System, 60-0382.

SECURITY CLASSIFICATION:

Unclassified.

SYSTEM LOCATION:

Social Security Administration, Office of Retirement and Disability Policy, Office of Research, Demonstration, and Employment Support, 6401 Security Boulevard, Baltimore, Maryland 21235.

SYSTEM MANAGER(S):

Social Security Administration, Deputy Commissioner for Retirement and Disability Policy, Office of Research, Demonstration, and Employment Support, 6401 Security Boulevard, Baltimore, Maryland 21235, ^ORDES_Controls@ssa.gov.

AUTHORITY FOR MAINTENANCE OF THE SYSTEM:

Sections 234, 1106, and 1110 of the Social Security Act (42 U.S.C. 434, 1306, and 1310) and SSA Regulations (20 CFR part 401.165).

PURPOSE(S) OF THE SYSTEM:

We use this system to perform research about SSDI and/or SSI beneficiaries. We may also grant outside researchers access to information in this system when conducting SSA-approved research. Internal and external researchers and statisticians use the data to perform in-depth research including, but not limited to, examining the medical, economic, and social consequences of limitations in work activity for individuals with disabilities and their families; program planning and evaluation; evaluation of proposals for policy and legislative changes; and, to determine the characteristics of program applicants and benefit recipients.

CATEGORIES OF INDIVIDUALS COVERED BY THE SYSTEM:

We maintain information about past, present, and potential beneficiaries (e.g., denied applicants) of SSDI and SSI, as well as State Vocational Rehabilitation programs.

CATEGORIES OF RECORDS IN THE SYSTEM:

The categories of records in this system include name; Social Security number (SSN); socioeconomic data (e.g., education, work, and earnings); demographics, (e.g., date of birth, date of death, sex, and state of residence); medical characteristics, (e.g., number of limitations, self-reported health, mental health score); disability characteristics, (e.g. primary diagnosis code and dual eligibility); information concerning subjects, (e.g., health, self-reported health status, work experience, and family relationships); benefits, (e.g., combined SSI and SSDI); and use of medical and rehabilitative services, (e.g., agency closure type and service use).

RECORD SOURCE CATEGORIES:

We obtain information in this system from other SSA systems of records, including but not limited to 60-0050, Completed Determination Record—Continuing Disability Determinations; 60-0058, Master File of Social Security Number (SSN) Holders and SSN Applications; 60-0090, Master Beneficiary Record; 60-0103, Supplemental Security Income Record and Special Veterans Benefits; 60-0221, Vocational Rehabilitation Reimbursement Case Processing System; 60-0295, Ticket-to-Work and Self-Sufficiency Program Payment Database; and 60-0320, Electronic Disability (eDIB) Claim File.

The system also contains data from system of records 60-0059, Earnings Recording and Self-Employment Income System. Only SSA staff have access to data from the Earnings Recording and Self-Employment Income System.

We also obtain information in this system from other Federal agencies (e.g., the U.S. Census Bureau and U.S. Department of Education (e.g., the Rehabilitation Services Administration, for vocational rehabilitation program applicant or participant data)); surveys (e.g., the National Beneficiary Survey); and other extramural research conducted under agreements, contracts, and grants between SSA and other agencies or entities.

ROUTINE USES OF RECORDS COVERED IN THE SYSTEM, INCLUDING CATEGORIES OF USERS AND THE PURPOSES OF SUCH USES:

We will disclose records pursuant to the following routine uses; however, we will not disclose any information defined as “return or return information” under 26 U.S.C. 6103 of the Internal Revenue Code, unless authorized by statute, the Internal Revenue Service (IRS), or IRS regulations.

1. To contractors and Federal agencies, as necessary, for the purpose of assisting SSA in the efficient administration of its programs. We will disclose information under this routine use only in situations in which SSA may enter into a contractual or similar agreement with a third party to assist in accomplishing an agency function relating to this system of records.

2. To contractors, cooperative agreement awardees, State agencies, Federal agencies, and Federal congressional support agencies for research and statistical activities that are designed to increase knowledge about present or alternative Social Security programs; are of importance to the Social Security program or the Social Security beneficiaries; or are for an epidemiological project that relates to the Social Security program or beneficiaries. We will disclose information under this routine use pursuant only to a written agreement with SSA.

3. To organizations and agencies that have been granted on-site access only to the DAF-NBS system for research and statistics activities that are designed to increase knowledge about present or alternative Social Security programs; are of importance to the Social Security program or the Social Security beneficiaries; or are for an epidemiological project that relates to the Social Security program or beneficiaries. We will disclose information under this routine use pursuant only to a written agreement between the organization or agency and SSA.

4. To student volunteers, individuals working under a personal services contract, and other workers who technically do not have the status of Federal employees, when they are performing work for SSA, as authorized by law, and they need access to personally identifiable information (PII) in SSA records in order to perform their assigned agency functions.

5. To a congressional office in response to an inquiry from that office made on behalf of, and at the request of, the subject of the record or third party acting on the subject's behalf.

6. To the Office of the President, in response to an inquiry from that office made on behalf of, and at the request of, the subject of record or a third party acting on the subject's behalf.

7. To the Department of Justice (DOJ), a court or other tribunal, or another party before such court or tribunal, when:

(a) SSA, or any component thereof; or

(b) any SSA employee in his/her official capacity; or

(c) any SSA employee in his/her individual capacity where DOJ (or SSA where it is authorized to do so) has agreed to represent the employee; or

(d) the United States or any agency thereof where SSA determines the litigation is likely to affect SSA or any of its components,is a party to the litigation or has an interest in such litigation, and SSA determines that the use of such records by DOJ, a court or other tribunal, or another party before the tribunal is relevant and necessary to the litigation, provided, however, that in each case, the agency determines that disclosure of the records to DOJ, court or other tribunal, or another party is a use of the information contained in the records that is compatible with the purpose for which the records were collected.

8. To Federal, State and local law enforcement agencies and private security contractors as appropriate, information necessary:

(a) To enable them to protect the safety of SSA employees and customers, the security of the SSA workplace, and the operation of SSA facilities; or

(b) to assist in investigations or prosecutions with respect to activities that affect such safety and security or activities that disrupt the operation of SSA facilities.

9. To the National Archives and Records Administration (NARA) under 44 U.S.C. 2904 and 2906.

10. To appropriate agencies, entities, and persons when:

(a) SSA suspects or has confirmed that there has been a breach of the system of records;

(b) SSA has determined that, as a result of the suspected or confirmed breach, there is a risk of harm to individuals, SSA (including its information systems, programs, and operations), the Federal Government, or national security; and

(c) the disclosure made to such agencies, entities, and persons is reasonably necessary to assist in connections with SSA's efforts to respond to the suspected or confirmed breach or to prevent, minimize, or remedy such harm.

11. To another Federal agency or Federal entity, when the SSA determines that information from this system of records is reasonably necessary to assist the recipient agency or entity in:

(a) Responding to a suspected or confirmed breach; or

(b) preventing, minimizing, or remedying the risk of harm to individuals, the recipient agency or entity (including its information systems, programs, and operations), the Federal Government, or national security, resulting from a suspected or confirmed breach.

POLICIES AND PRACTICES FOR STORAGE OF RECORDS:

We store data in paper form (e.g., questionnaire forms, computer printouts) and in electronic form (e.g., magnetic tape and disc).

POLICIES AND PRACTICES FOR RETRIEVAL OF RECORDS:

We retrieve files by case number or SSN. We also retrieve files by socioeconomic, demographic, medical, and disability characteristics.

POLICIES AND PRACTICES FOR RETENTION AND DISPOSAL OF RECORDS:

We retain records until 90 days old or no longer needed pursuant to supervisory authorization, whichever is appropriate, in accordance with the approved NARA General Records Schedule 4.2: Information Access and Protection Records (DAA-GRS-2013-0007-0012).

ADMINISTRATIVE, TECHNICAL, AND PHYSICAL SAFEGUARDS:

We retain electronic and paper files with personal identifiers in secure storage areas accessible only by our authorized employees and contractors who have a need for the information when performing their official duties. Security measures include the use of codes and profiles, personal identification number and password, and personal identification verification cards. We keep paper records in locked cabinets within secure areas, with access limited to only those employees who have an official need for access in order to perform their duties. To the maximum extent consistent with the approved research needs, we purge personal identifiers from micro-data files prepared for purposes of research and subject these files to procedural safeguards to assure anonymity.

We annually provide our employees and contractors with appropriate security awareness training that includes reminders about the need to protect PII and the criminal penalties that apply to unauthorized access to, or disclosure of, PII (5 U.S.C. 552a(i)(1)). Furthermore, employees and contractors with access to databases maintaining PII must sign a sanctions document annually, acknowledging their accountability for inappropriately accessing or disclosing such information.

In addition, all external researchers accessing information from the DAF-NBS system of records will be required to complete the appropriate security awareness training, which includes reminders about the need to protect PII and the criminal penalties that apply to unauthorized access to, or disclosure of, PII.

RECORD ACCESS PROCEDURES:

Individuals may submit requests for notification of, or access to, information about them contained in this system by submitting a written request to the system manager at the above address, which includes their name, SSN, or other information that may be in this system of records that will identify them. Individuals requesting notification of, or access to, a record by mail must include (1) a notarized statement to verify their identity or (2) must certify in the request that they are the individual they claim to be and that they understand that the knowing and willful request for, or acquisition of, a record pertaining to another individual under false pretenses is a criminal offense.

Individuals requesting notification of, or access to, records may also make an in-person request by providing their name, SSN, or other information that may be in this system of records that will identify them, as well as provide an identifying document, preferably with a photograph, such as a driver's license. Individuals lacking identification documents sufficient to establish their identity must certify in writing that they are the individual they claim to be and that they understand that the knowing and willful request for, acquisition of, a record pertaining to another individual under false pretenses is a criminal offense. These procedures are in accordance with our regulations at 20 CFR 401.40 and 401.45.

CONTESTING RECORD PROCEDURES:

Same as record access procedures. Individuals should also reasonably identify the record, specify the information they are contesting, and state the corrective action sought and the reasons for the correction with supporting justification showing how the record is incomplete, untimely, inaccurate, or irrelevant. These procedures are in accordance with our regulations at 20 CFR 401.65(a).

NOTIFICATION PROCEDURES:

Same as record access procedures. These procedures are in accordance with our regulations at 20 CFR 401.40 and 401.45.

EXEMPTIONS PROMULGATED FOR THE SYSTEM:

None.

HISTORY:

None.

[FR Doc. 2018-27665 Filed 12-20-18; 8:45 am]

BILLING CODE 4191-02-P